DEPARTMENT OF HOMELAND SECURITY

Federal Emergency Management Agency

44 CFR Part 67

[Docket ID FEMA-2008-0020; Internal Agency Docket No. FEMA-B-1061]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before December 7, 2009.

ADDRESSES: The corresponding preliminary Flood Insurance Rate Map (FIRM) for the proposed BFEs for each community are available for inspection at the community's map repository. The respective addresses are listed in the table below.

You may submit comments, identified by Docket No. FEMA-B-1061, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Mason County, Illinois, and Incorporated Areas
Illinois River | Approximately 0.2 miles upstream of 750 N. extended | +451 | +452 | Unincorporated Areas of Mason County.
| Approximately 0.74 miles upstream of Walnut Street extended | +450 | +452
| Approximately 0.12 miles upstream of 2500 N. extended | +455 | +454
| Approximately 0.1 miles upstream of 2600 N | +455 | +454
Sangamon River | Approximately 0.15 miles upstream of County Road 800 E | None | +456 | Unincorporated Areas of Mason County.
| Approximately 0.3 miles upstream of State Highway 78 | None | +461
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Mason County
Maps are available for inspection at the Mason County Courthouse, Zoning Office, 125 North Plum Street, Havana, IL 62644.
Saline County, Kansas, and Incorporated Areas
East Dry Creek Tributary | Approximately 0.7 mile downstream of Missouri Pacific Railroad | None | +1203 | City of Salina, Unincorporated Areas of Saline County.
| Approximately 0.9 mile upstream of Holmes Road | None | +1264
Old Smokey Hill River Channel | Approximately 1.5 miles downstream of Indiana Avenue, at the levee | None | +1207 | Unincorporated Areas of Saline County, City of Salina.
| Approximately 0.5 mile upstream of Ohio Street | None | +1225.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Salina
Maps are available for inspection at 300 West Ash Street, Salina, KS 67402.
Unincorporated Areas of Saline County
Maps are available for inspection at 300 West Ash Street, Salina, KS 67402.
Montgomery County, Kentucky, and Incorporated Areas
Hinkston Creek | Approximately 500 feet upstream of Hinkston Pike (KY 1991) | None | +911 | Unincorporated Areas of Montgomery County, City of Mt. Sterling.
| Approximately 100 feet downstream of Calk Lane | None | +962
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Mt. Sterling
Maps are available for inspection at 33 North Maysville Street, Mount Sterling, KY 40353.
Unincorporated Areas of Montgomery County
Maps are available for inspection at 1 Court Street, Mount Sterling, KY 40353.
Essex County, Massachusetts (All Jurisdictions)
Atlantic Ocean | Along the shoreline, approximately 350 feet east of the end of 55th Street | +13 | +18 | City of Newburyport.
| Along the shoreline, approximately 575 feet north of the intersection of Northern Boulevard and 82nd Street | +10 | +22
Atlantic Ocean | Along the shoreline, approximately 850 feet east of the intersection of Page Road and Phillips Street | +9 | +16 | Town of Newbury, City of Gloucester, Town of Ipswich, Town of Manchester, Town of Marblehead, Town of Nahant, Town of Rowley, Town of Swampscott.
| Along the shoreline, approximately 3,000 feet south of the intersection of Lynnway and Nahant Road | +1 | +17
Atlantic Ocean | Along the shoreline, approximately 150 feet south of State Beach Road | +11 | +12 | Town of Salisbury.
| Along the shoreline, approximately 60 feet east of the intersection of Liberty Street and North End Boulevard | None | +20
Ipswich River | Approximately 150 feet northeast of the Eastern end of Sargent Street | None | +38 | City of Beverly.
| Approximately 1,000 feet north of the intersection of Dodge Street and Norwoods Pond Road | None | +38
Long Causeway Brook | Approximately 800 feet north of the intersection of Route 1A and North Edge Road | None | +21 | Town of Ipswich.
| Approximately 4,500 feet southwest of the intersection of Route 1A and North Edge Road | None | +21
Shawsheen River | Approximately 900 feet east of the intersection of Highway 495 and Route 28 | +34 | +36 | Town of Andover, City of Lawrence, Town of North Andover.
| Approximately 2,500 feet southwest of Burtt Road and Biotechnology Drive | +75 | +77
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Beverly
Maps are available for inspection at City Hall, 191 Cabot Street, Beverly, MA 01915.
City of Gloucester
Maps are available for inspection at City Hall, 9 Dale Avenue, Gloucester, MA 01930.
City of Lawrence
Maps are available for inspection at City Hall, 200 Common Street, Lawrence, MA 01840.
City of Newburyport
Maps are available for inspection at City Hall, 60 Pleasant Street, Newburyport, MA 01950.
Town of Andover
Maps are available for inspection at the Town Offices, 36 Bartlet Street, Andover, MA 01810.
Town of Ipswich
Maps are available for inspection at the Town Hall, 25 Green Street, Ipswich, MA 01938.
Town of Manchester
Maps are available for inspection at the Town Hall, 10 Central Street, Manchester-by-the-Sea, MA 01944.
Town of Marblehead
Maps are available for inspection at Abbot Hall, 188 Washington Street, Marblehead, MA 01945.
Town of Nahant
Maps are available for inspection at the Town Hall, 334 Nahant Road, Nahant, MA 01908.
Town of Newbury
Maps are available for inspection at the Town Hall, 25 High Road, Newbury, MA 01951.
Town of North Andover
Maps are available for inspection at the Town Hall, 120 Main Street, North Andover, MA 01845.
Town of Rowley
Maps are available for inspection at the Town Hall, 139 Main Street, Rowley, MA 01969.
Town of Salisbury
Maps are available for inspection at the Town Hall, 5 Beach Road, Salisbury, MA 01952.
Town of Swampscott
Maps are available for inspection at the Town Hall, 22 Monument Avenue, Swampscott, MA 01907.
Eaton County, Michigan, and Incorporated Areas
Carrier Creek | At the confluence with Moon and Hamilton County Drain | +841 | +837 | Charter Township of Delta.
| Approximately 550 feet upstream of Grand Trunk Western Railroad | None | +867
Grand River | Approximately 5,490 feet upstream of the divergence of Grand River Bypass | None | +875 | Township of Hamlin.
| Approximately 5,850 feet upstream of the divergence of Grand River Bypass | None | +875
Miller Creek | Approximately 50 feet upstream of Willow Highway | +807 | +808 | Charter Township of Delta.
| Approximately 700 feet upstream of Ireland Drive | +850 | +851
Miller Creek Overflow Channel | Approximately 800 feet upstream of the convergence with Miller Creek | +823 | +822 | Charter Township of Delta.
| Approximately 1,760 feet upstream of the convergence with Miller Creek | +825 | +828
Moon and Hamilton County Drain | Approximately 1,900 feet upstream of Willow Highway | +813 | +812 | Charter Township of Delta.
| Approximately 4,200 feet upstream of Millett Highway | +872 | +869
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Charter Township of Delta
Maps are available for inspection at 7710 West Saginaw Highway, Delta, MI 48917.
Township of Hamlin
Maps are available for inspection at 6463 South Clinton Trail, Eaton Rapids, MI 68827.
Buffalo County, Nebraska, and Incorporated Areas
Airport Draw | At the confluence with Wood River | None | +2119 | Unincorporated Areas of Buffalo County, City of Kearney.
| Just downstream of East 56th Street | None | +2179
Glenwood Park Creek | At the confluence with Wood River | None | +2140 | Unincorporated Areas of Buffalo County, City of Kearney.
| Just downstream of West 39th Street | None | +2229
Kearney Canal | Approximately 1.0 mile above Cottonmill Avenue | None | +2220 | City of Kearney.
North Channel Platte River (eastern portion of stream, eastern side of City of Kearney) | Approximately 0.9 miles downstream of County Highway 36 (Cherry Avenue) | None | +2114 | City of Kearney.
| Approximately 200 feet downstream of County Highway 36 (Cherry Avenue) | None | +2118
North Channel Platte River (western portion of stream, west of City of Kearney) | Approximately 0.5 miles downstream of 62nd Avenue | None | +2165 | City of Kearney.
| Just downstream of 62nd Avenue | None | +2169
Platte River (eastern portion of stream, southeast of the City of Kearney) | Approximately 2.9 miles downstream of State Highway 44 | None | +2122 | City of Kearney.
| Approximately 2.1 miles downstream of State Highway 44 | None | +2128
Platte River (western portion of stream, southwest of the City of Kearney) | Approximately 2.1 miles upstream of State Highway 44 | None | +2157 | Unincorporated Areas of Buffalo County, City of Kearney.
| Approximately 3.3 miles upstream of State Highway 44 | None | +2165
Shallow flooding from North Dry Creek Ditch | Approximately 0.6 miles upstream of confluence with Platte River | None | +2155 | City of Kearney.
| Approximately 1.2 miles upstream of confluence with Platte River | None | +2156
Wood River | Approximately 2.0 miles downstream of Imperial Avenue | None | +2113 | Unincorporated Areas of Buffalo County.
| Approximately 0.4 miles upstream of Highway 10 | +2147 | +2146
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Kearney
Maps are available for inspection at 18 East 22nd Street, Kearney, NE 68847.
Unincorporated Areas of Buffalo County
Maps are available for inspection at 9730 Antelope Avenue, Kearney, NE 68847.
Roosevelt County, New Mexico, and Incorporated Areas
17th and 18th Street Shallow Flooding | Flooding effects extending southward approximately 2,250 feet from E 18th street | None | +4001 | Unincorporated Areas of Roosevelt County.
| Flooding effects extending southward approximately 2,250 feet from E 18th street | None | +4003
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Roosevelt County
Maps are available for inspection at 109 West 1st Street, Portales, NM 88130.
Brown County, South Dakota, and Incorporated Areas
James River | Approximately 3.8 miles downstream of 147th Street | None | +1275 | Unincorporated Areas of Brown County.
| Approximately 6,260 feet upstream of 101st Street | None | +1296
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Brown County
Maps are available for inspection at 25 Market Street, Aberdeen, SD 57401.
Cheatham County, Tennessee, and Incorporated Areas
Big Bartons Creek | Approximately 3.8 miles upstream of the confluence with Cumberland River | None | +397 | Unincorporated Areas of Cheatham County.
| Approximately 1.1 miles upstream of the confluence with Cumberland River | None | +397
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Cheatham County
Maps are available for inspection at the Building Commissioner's Office, 210 South Main Street, Ashland City, TN 37015.
Burnet County, Texas, and Incorporated Areas
Colorado River | Approximately 0.88 miles upstream of confluence with Wolf Hollow Creek | +160 | +163 | Unincorporated Areas of Burnet County.
| At the confluence of Varnhagan Creek | +770 | +768
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Burnet County
Maps are available for inspection at 220 South Pierce Street, Burnet, TX 78611.
Karnes County, Texas, and Incorporated Areas
Escondido Creek | Approximately 700 feet downstream of confluence with Nichols Creek | +259 | +258 | Unincorporated Areas of Karnes County.
| Approximately 450 feet upstream of confluence with Panther Creek | None | +274
Marcelinas Creek | Approximately 730 feet upstream of confluence with Tributary 1 to Marcelinas Creek Watershed | None | +300 | Unincorporated Areas of Karnes County.
| Approximately 830 feet upstream of confluence with Tributary 8 to Marcelinas Creek Watershed | None | +307
Ojo de Agua Creek | Approximately 1,050 feet downstream of Farm to Market 81 | None | +262 | Unincorporated Areas of Karnes County.
| Approximately 860 feet upstream of confluence with Tributary 9 to Ojo de Agua Watershed | None | +287
San Antonio River | Approximately 460 feet downstream of confluence with Marcelinas Creek | None | +300 | Unincorporated Areas of Karnes County.
| Approximately 1,440 feet downstream of confluence with Tributary 199 to Lower San Antonio River Watershed | None | +304
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Karnes County
Maps are available for inspection at the Karnes County Courthouse, 101 North Panna Maria, Karnes City, TX 78118.
Kendall County, Texas, and Incorporated Areas
Cibolo Creek | Approximately 2 miles upstream of the confluence with Balcones Creek | None | +1301 | Unincorporated Areas of Kendall County.
| Approximately 2.6 miles upstream of the confluence with Balcones Creek | None | +1309
Guadalupe River | Just upstream of County Highway FM 3351 | None | +1122 | Unincorporated Areas of Kendall County.
| Approximately 1,750 feet upstream of Gourly Road | None | +1164
Ranger Creek | Approximatelty 2.5 miles upstream of the confluence with Cibolo Creek | None | +1552 | Unincorporated Areas of Kendall County.
| Approximatelty 4.2 miles upstream of the confluence with Cibolo Creek | None | +1655
Spring Creek | At the confluence with Guadalupe River | None | +1150 | Unincorporated Areas of Kendall County.
| Approximately 0.6 miles downstream of the confluence with Black Creek | None | +1176
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Kendall County
Maps are available for inspection at 201 East San Antonio Drive, Suite 122, Boerne, TX 78006.
Walker County, Texas, and Incorporated Areas
Baldwin Creek | Approximately 2.7 miles downstream of County Highway FM 247 | None | +244 | Unincorporated Areas of Walker County.
| Approximately 1.6 miles downstream of County Highway FM 247 | None | +261
Caney Creek | Approximately 0.6 miles upstream of County Highway FM 2296 | None | +354 | Unincorporated Areas of Walker County.
| Approximately 0.6 miles downstream of Evelyn Lane | None | +374
Crabb Creek | Approximately 475 feet upstream of North Rocky Creek | None | +257 | Unincorporated Areas of Walker County.
| Approximately 500 feet upstream of Interstate Highway North US Highway 190 | None | +287
East Fork (Tanyard Branch) | Approximately 0.5 miles upstream of confluence with Tanyard Branch | None | +291 | Unincorporated Areas of Walker County.
| Approximately 0.9 miles upstream of confluence with Tanyard Branch | None | +298
Hadley Creek | Just downstream of Rosenwall Road | None | +250 | Unincorporated Areas of Walker County.
| Just upstream of the confluence with North Rocky Creek | None | +285
Hendricks Lake | At the confluence with Town Branch | None | +273 | Unincorporated Areas of Walker County.
| Approximately 700 feet downstream of County Highway FM 2821 | None | +284
Mays Creek | Approximately 0.4 miles upstream of County Highway FM 2929 | None | +320 | Unincorporated Areas of Walker County.
| Approximately 2.5 miles upstream of County Highway FM 2929 | None | +355
McDonald Creek | Approximately 0.4 miles upstream of West Sunset Drive | None | +293 | Unincorporated Areas of Walker County.
| Just downstream of Spring Drive | None | +357
McGary Creek | Approximately 1.8 miles downstream of the confluence with Tributary 6 (McGary Creek) | None | +279 | Unincorporated Areas of Walker County.
| Approximately 1,750 feet downstream of the confluence with Tributary 6 (McGary Creek) | None | +289
| Approximately 0.8 miles downstream of Timberwilde Drive | None | +318
| Approximately 0.9 miles upstream of Timberwilde Drive | None | +351
Parker Creek | Approximately 0.6 miles upstream from Tributary Number 8 (Parker Creek) | None | +212 | Unincorporated Areas of Walker County.
| At the confluence with Town Branch | None | +260
Prairie Branch | At the confluence with Raven Lake | None | +287 | Unincorporated Areas of Walker County.
| Just downstream of Camellia Drive | None | +307
Robinson Creek | Approximately 1,250 feet upstream of Robinson Road | None | +283 | Unincorporated Areas of Walker County.
| Approximately 0.6 miles downstream of Veterans Memorial Highway | None | +333
Scott Branch | At the confluence with Thickett Branch | None | +256 | Unincorporated Areas of Walker County.
| Approximately 1,250 feet upstream of the confluence with Thickett Branch | None | +261
Shepherd Creek | Approximately 0.71 miles upstream of County Highway FM 2296 | None | +317 | Unincorporated Areas of Walker County.
| Approximately 1.5 miles upstream of the confluence with Tributary 3 | None | +381
Tanyard Branch | Approximately 500 feet downstream of the confluence with Tributary Number 2 (Tanyard Branch) | None | +224 | Unincorporated Areas of Walker County.
| Approximately 0.5 miles upstream of US Highway 190 | None | +363
Thickett Branch | Approximately 500 feet downstream of the confluence with Scott Branch | None | +256 | Unincorporated Areas of Walker County.
| Approximately 800 feet upstream of the confluence with Scott Branch | None | +260
Town Branch | At the confluence with Parker Creek | None | +260 | Unincorporated Areas of Walker County.
| Approximately 1,200 feet upstream of the confluence with Hendricks Lake | None | +277
Tributary 1 (Robinson Creek) | At the confluence with Robinson Creek | None | +294 | Unincorporated Areas of Walker County.
| Approximately 400 feet downstream of Gazebo Street | None | +329
Tributary 2 (Tanyard Branch) | At the confluence with Tanyard Branch | None | +224 | Unincorporated Areas of Walker County.
| Approximately 1,200 feet upstream of Robinson Road | None | +253
Tributary 5 (McGary Creek) | Approximately 1,250 feet upstream of the confluence with McGary Creek | None | +323 | Unincorporated Areas of Walker County.
| Just downstream of Timberwilde Drive | None | +329
Tributary 6 (McGary Creek) | Approximately 0.9 miles upstream of the confluence with McGary Creek | None | +301 | Unincorporated Areas of Walker County.
| Approximately 2.17 miles upstream of the confluence with McGary Creek | None | +319
Tributary 9 (Sheperd Creek) | At the confluence with Sheperd Creek | None | +332 | Unincorporated Areas of Walker County.
| Approximately 900 feet downstream of Four Notch Road | None | +347
Tributary Number 7 (Hadley Creek) | Approximately 1,200 feet downstream of Cauthen Drive | None | +256 | Unincorporated Areas of Walker County.
| Approximately 1.3 miles upstream of Cauthen Drive | None | +275
Tributary Number 8 (Parker Creek) | Approximately 0.9 miles upstream of the confluence with Pain Branch | None | +218 | Unincorporated Areas of Walker County.
| Approximately 0.9 miles downstream of Albritton Road | None | +231
Wayne Creek | Approximately 1,750 feet downstream of Forest Service Road # 236A | None | +259 | Unincorporated Areas of Walker County.
| Approximately 1.1 miles upstream of the confluence with Ford Branch | None | +298
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Walker County
Maps are available for inspection at 1100 University Avenue, Huntsville, TX 77320.
Dickenson County, Virginia, and Incorporated Areas
Frying Pan Creek | At the confluence with Russell Fork | None | +1293 | Unincorporated Areas of Dickenson County.
| Approximately 1,400 feet downstream from the intersection of Sandlick Road and Frying Pan Road | None | +1316
Greenbriar Creek | At the confluence with Russell Prater Creek | None | +1418 | Unincorporated Areas of Dickenson County.
| Approximately 1,400 feet downstream from the intersection of Winchester Drive and Greenbrier Road | None | +1426
Lick Creek | At the confluence with Russell Fork | None | +1289 | Unincorporated Areas of Dickenson County.
| Approximately 1,000 feet upstream from the intersection of Aily Road and Ransom Road | None | +1559
McClure Creek | Approximately 1,800 feet upstream of the confluence with Open Fork and McClure River | None | +1520 | Unincorporated Areas of Dickenson County.
| Approximately 1,100 feet downstream from the intersection of Wakenva Hollow Road and Dante Mountain Road | None | +1598
McClure River | At the confluence with Russell Fork | +1264 | +1273 | Unincorporated Areas of Dickenson County, Town of Clinchco, Town of Haysi.
| Approximately 300 feet downstream from the intersection of Doctor Ralph Stanley Highway and Dante Mountain Road | +1514 | +1518
Mill Creek | At the confluence with McClure River | None | +1403 | Unincorporated Areas of Dickenson County, Town of Clinchco.
| Approximately 400 feet upstream of Chevy Drive | None | +1622
Open Fork | At the confluence with McClure River | None | +1518 | Unincorporated Areas of Dickenson County.
| Approximately 1,000 ft upstream from the intersection of Neece Creek Road and Brushy Ridge Road | None | +1581
Russell Fork | Approximately 1,300 feet downstream of Bartlick Road | None | +1190 | Unincorporated Areas of Dickenson County, Town of Haysi.
| Approximately 160 feet downstream of Sandlick Road | None | +1437
Russell Prater Creek | At the confluence with Russell Fork | +1265 | +1275 | Unincorporated Areas of Dickenson County, Town of Haysi.
| At the confluence with Greenbriar Creek | None | +1418
Spring Fork | Just downstream of the Railroad Crossing | None | +1557 | Unincorporated Areas of Dickenson County.
| Approximately 850 feet upstream from intersection of Rebel Drive and Doctor Ralph Stanley Highway | None | +1577
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Town of Clinchco
Maps are available for inspection at 156 Main Street, Clinchco, VA 24226.
Town of Haysi
Maps are available for inspection at 322 Haysi Main Street, Haysi, VA 24256.
Unincorporated Areas of Dickenson County
Maps are available for inspection at 293 Clintwood Main Street, Clintwood, VA 24228.
Fayette County, West Virginia, and Incorporated Areas
Smithers Creek | Approximately 700 feet downstream of Carbondale Road | None | +640 | Unincorporated Areas of Fayette County.
| Approximately 550 feet upstream of Carbondale Road | None | +651
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Fayette County
Maps are available for inspection at the Fayette County Building, Safety Department, 100 Court Street, Fayetteville, WV 25840.
Oconto County, Wisconsin, and Incorporated Areas
Anderson Lake | Entire shoreline | None | +860 | Unincorporated Areas of Oconto County.
Bass Lake/Crooked Lake/Gilkey Lake | Entire shoreline | None | +951 | Unincorporated Areas of Oconto County.
Brookside Creek | Approximately 0.41 miles upstream of US Highway 41 | +615 | +616 | Unincorporated Areas of Oconto County.
| Approximately 655 feet upstream of Cross Road | None | +681
Christie Brook | Approximately 1.3 miles downstream of Quarterline Road | None | +740 | City of Gillett, Unincorporated Areas of Oconto County.
| Approximately 0.3 miles upstream of Klaus Lake Road | None | +819
City of Oconto Tributary No. 4 | Approximately 344 feet downstream of County Highway S | None | +591 | City of Oconto, Unincorporated Areas of Oconto County.
| Just upstream of Cook Road | +594 | +595
Hayes Creek | Just upstream of Hayes Road | +830 | +832 | Unincorporated Areas of Oconto County.
| Just downstream of County Highway R | +843 | +844
Jones Creek | Just upstream of US Highway 141 | None | +697 | Village of Lena, Unincorporated Areas of Oconto County.
| Approximately 0.8 miles upstream of Harley Street | None | +708
Kirchner Creek | Approximately 225 feet downstream of Sampson Road | None | +599 | Unincorporated Areas of Oconto County.
| Approximately 1.1 miles downstream of East Frontage Road | None | +633
Little Suamico River | Approximately 500 feet upstream of Cross Road | None | +644 | Unincorporated Areas of Oconto County, Village of Pulaski.
| Approximately 0.2 miles upstream of 4th Avenue N | +793 | +793
McCaslin Brook | Approximately 410 feet upstream of Old 32 Road | None | +1174 | Unincorporated Areas of Oconto County.
| Immediately downstream of Townsend Dam Road | None | +1314
North Branch Oconto River | Approximately 0.8 miles upstream of Riverside Road | +1159 | +1161 | Unincorporated Areas of Oconto County.
| Approximately 1.5 miles upstream of Riverside Road | +1183 | +1185
Oconto River Tributary No. 2 | Just upstream of Mill Street | +591 | +590 | City of Oconto.
| Approximately 95 feet downstream of Charles Street | +595 | +598
Oconto River Tributary No. 22 | Approximately 150 feet downstream of South Maple Street | +642 | +641 | City of Oconto Falls, Unincorporated Areas of Oconto County.
| Approximately 0.6 miles upstream of South Flatley Avenue | None | +742
Pensaukee River | Approximately 0.3 miles upstream of County Highway J | +621 | +620 | Unincorporated Areas of Oconto County.
| Approximately 428 feet downstream of Safian Road | +759 | +760
Round Lake | Entire shoreline | None | +827 | Unincorporated Areas of Oconto County.
Spring Creek | Just downstream of US Highway 141 | +652 | +653 | Unincorporated Areas of Oconto County.
| Approximately 0.7 miles upstream of County Highway E | None | +717
Spring Creek Tributary No. 6 | At the confluence with Spring Creek | +703 | +706 | Unincorporated Areas of Oconto County.
| Approximately 450 feet upstream of Burdosh Road | +713 | +717
Tibbet Creek | Approximately 600 feet downstream of Rost Road | None | +585 | Unincorporated Areas of Oconto County.
| Approximately 1.7 miles upstream of Lade Beach Road | None | +627
Town Creek | Approximately 0.6 miles downstream of Palmer Lane | None | +920 | Unincorporated Areas of Oconto County.
| Just downstream of State Highway 32/64 | None | +980
Waupee Creek | Just upstream of State Highway 32/64 | None | +859 | Unincorporated Areas of Oconto County.
| Immediately downstream of Waupee Dam | +936 | +937
Wescott Lake | Entire shoreline | None | +845 | Unincorporated Areas of Oconto County.
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Gillett
Maps are available for inspection at 150 North McKenzie Avenue, Gillett, WI 54124.
City of Oconto
Maps are available for inspection at 1210 Main Street, Oconto, WI 54153.
City of Oconto Falls
Maps are available for inspection at 500 North Chestnut Avenue, Oconto Falls, WI 54154.
Unincorporated Areas of Oconto County
Maps are available for inspection at 301 Washington Street, Oconto, WI 54153.
Village of Lena
Maps are available for inspection at 117 East Main Street, Lena, WI 54139.
Village of Pulaski
Maps are available for inspection at 421 South Saint Augustine Street, Pulaski, WI 54162-0320.

(Catalog of Federal Domestic Assistance No. 97.022, “Flood Insurance.”)

Deborah S. Ingram,
Acting Deputy Assistant Administrator for Mitigation, Mitigation Directorate, Department of Homeland Security, Federal Emergency Management Agency.

[FR Doc. E9-21469 Filed 9-4-09; 8:45 am]

BILLING CODE 9110-12-P